FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington DC 20551-0001, not later than August 24, 2020.

A. Federal Reserve Bank of Atlanta (Kathryn Haney, Assistant Vice President) 1000 Peachtree Street NE, Atlanta, Georgia 30309. Comments can also be sent electronically to Applications.Comments@atl.frb.org:

1. The Vanguard Group, Inc., and its subsidiaries and affiliates, Malvern, Pennsylvania; to acquire additional voting shares of Raymond James Financial, Inc., and thereby, indirectly acquire additional voting shares of Raymond James Bank, NA, both of St. Petersburg, Florida.

B. Federal Reserve Bank of San Francisco (Sebastian Astrada, Director, Applications) 101 Market Street, San Francisco, California 94105-1579:

1. Kerry J. Fairchild, Tulalip, Washington; Fairchild Marital Trust and Fairchild WA Exemption Trust, Kerry J. Fairchild, trustee for both trusts; and Heidi M. Fassett and Jonathon E. Fassett, both of Selah, Washington; as a group acting in concert to retain voting shares of Pacific Crest Bancorp, Inc., and thereby, indirectly retain voting shares of Pacific Crest Savings Bank, both of Lynnwood, Washington.

Board of Governors of the Federal Reserve System, August 5, 2020.
Yao-Chin Chao,
Assistant Secretary of the Board.

[FR Doc. 2020-17411 Filed 8-7-20; 8:45 am]

BILLING CODE P